DEPARTMENT OF ENERGY

Federal Energy Regulatory Commission

[Docket No. CP17-409-000; PF17-1-000]

DTE Midstream Appalachia, LLC; Notice of Application for Certificate of Public Convenience and Necessity

Take notice that on May 1, 2017, DTE Midstream Appalachia, LLC (DTE Midstream), 333 Technology Drive, Suite 255, Canonsburg, Pennsylvania 15317, filed with the Federal Energy Regulatory Commission an abbreviated application under Section 7 of the Natural Gas Act requesting a Certificate of Public Convenience and Necessity authorizing DTE Midstream to construct, install, own, operate and maintain a new interstate natural gas pipeline known as the Birdsboro Pipeline Project. DTE Midstream requests issuance of blanket certificates Pursuant to Part 284, Subpart G and Part 157, Subpart F of the Commission's regulations.

The project will have an initial design capacity of 79,000 Dekatherms per day (Dth/d) and will transport natural gas from a single receipt point at an interconnection with a Texas Eastern Transmission LP (Texas Eastern) interstate pipeline to a single delivery point at a new gas-fired generating facility (Birdsboro Facility), all in Berks County, Pennsylvania. DTE Midstream proposes initial recourse rates and requests approval of its pro forma Tariff as well as approval of certain non-conforming terms in the proposed negotiated rate agreement, all as more fully set forth in the application which is on file with the Commission and open to public inspection.

The filing may also be viewed on the Web at http://www.ferc.gov using the “e-Library” link. Enter the docket number excluding the last three digits in the docket number field to access the document. For assistance, please contact FERC Online Support at FERCOnlineSupport@ferc.gov or toll free at (866) 208-3676, or TTY, contact (202) 502-8659.

Questions regarding this application may be directed to Kenneth Magyar, DTE Midstream Appalachia, LLC, 333 Technology Drive, Suite 255, Canonsburg, PA 15317; Phone: (724) 416-7263.

Specifically, DTE Midstream proposes 13.19 miles of 12-inch diameter pipeline; installation of a new pig receiver at the Birdsboro Facility; installation of one new meter site adjacent to the Texas Eastern right-of-way, one new pig launcher at the Texas Eastern interconnect; two new taps on the Texas Eastern pipeline; and four valves along the pipeline route spaced to meet the requirements of the U.S. Department of Transportation's Pipeline and Hazardous Materials Safety Administration. DTE Midstream requests Commission issue the requested authorizations by December 15, 2017, in order to meet the June 30, 2018, proposed in-service date. The total cost of the Project is estimated to be approximately $47,276,982.

On October 28, 2016, the Commission granted DTE Midstream's request to utilize the Commission's Pre-Filing Process and assigned Docket Number PF17-1-000 to staff activities involved in the above referenced project. Now, as of the filing of the May 1, 2017 application, the Pre-Filing Process for this project has ended. From this time forward, this proceeding will be conducted in Docket No. CP17-409-000, as noted in the caption of this Notice.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit five copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the eFiling link at http://www.ferc.gov. Persons unable to file electronically should submit original and five copies of the protest or intervention to the Federal Energy Regulatory Commission, 888 First Street NE., Washington, DC 20426.

Comment Date: 5:00 p.m. Eastern Time on May 30, 2017.

Dated: May 9, 2017.
Kimberly D. Bose,
Secretary.

[FR Doc. 2017-09805 Filed 5-15-17; 8:45 am]

BILLING CODE 6717-01-P